FEDERAL DEPOSIT INSURANCE CORPORATION

Notice to All Interested Parties of the Termination of Certain Receiverships by the FDIC in the Fourth Quarter of 2001

AGENCY: Federal Deposit Insurance Corporation (FDIC).

ACTION: Notice.

SUMMARY: Notice is hereby given that the FDIC, for itself or as successor in interest to the Resolution Trust Corporation, in its capacity as Receiver for the Institutions set forth below (the Receiver) intends to terminate these receiverships during the fourth calendar quarter of 2001.

FOR FURTHER INFORMATION CONTACT: Division of Resolutions and Receiverships, Terminations Section, 1-800-568-9161.

SUPPLEMENTARY INFORMATION:

Financial institution number and name | City | State
1232 First Federal Savings and Loan Association | Pontiac | MI
1263 Far West Federal Savings Bank | Portland | OR
1208 Valley Federal Savings and Loan Association | Van Nuys | CA
2101 American Pioneer Federal Savings Bank | Orlando | FL
2184 AmeriFirst Federal Savings Bank | Miami | FL
4497 American Savings Bank | White Plains | NY
4511 The Union Savings Bank | Patchoque | NY
4576 American Commerce National Bank | Anaheim | CA
4616 Bank of Newport | Newport Beach | CA
4642 Monument National Bank | Ridgecrest | CA
4648 The Malta National Bank | Malta | OH
6003 Mutual Federal Savings Bank of Atlanta | Atlanta | GA
7119 Gibraltar Savings, F.A | Simi Valley | CA
7275 Pima Federal Savings and Loan Association | Tucson | AZ
7281 Commonwealth Federal Savings and Loan Association | Ft. Lauderdale | FL
7439 Columbia Savings and Loan Association, F.A | Beverly Hills | CA

The liquidation of the assets of these receiverships is expected to be completed no later than December 31, 2001. To the extent permitted by available funds and in accordance with law, the Receiver for these institutions will be making a final dividend payment to proven creditors.

Based upon the foregoing, the Receiver has determined that the continued existence of such receiverships will serve no useful purpose. Consequently, notice is given that the receiverships will be terminated, as soon as practicable but no sooner than thirty (30) days after the date this Notice is published.

If any person wishes to comment concerning the termination of the receivership, such comment must be made in writing and sent within thirty days of the date this Notice is published to: Federal Deposit Insurance Corporation, Division of Resolutions and Receiverships, Attention: Terminations Department, 1910 Pacific Avenue, Dallas, TX 75201.

No comments concerning the termination of this receivership will be considered which are not sent within this time frame.

Dated: September 11, 2001.
Federal Deposit Insurance Corporation.
Robert E. Feldman,
Executive Secretary.

[FR Doc. 01-23190 Filed 9-17-01; 8:45 am]

BILLING CODE 6714-01-P